DEPARTMENT OF ENERGY

Federal Energy Regulatory Commission

[Project No. 3407-088]

Big Wood Canal Company; Notice Soliciting Applications and Waiving Regulations

On January 3, 2022, Big Wood Canal Company, licensee for the Magic Dam Hydroelectric Project No. 3407 (project), filed a Notice of Intent (NOI) to file an application for a new license for the project pursuant to section 15(b)(1) of the Federal Power Act (FPA).¹ On March 1, 2022, Commission staff issued public notice of the NOI and approved the use of the traditional licensing process to develop the license application. The current license for the project expires on December 31, 2026.²

¹ 16 U.S.C. 808(b)(1).

² Cook Electric, Inc., who transferred the license to Magic Reservoir Hydroelectric Inc., who subsequently transferred the license to Big Wood Canal Company, was issued a major license for the project on January 15, 1987, for a term of 40 years, effective the first day of the month in which the order was issued. See Cook Electric, Inc., 38 FERC ¶ 62,034 (1987); Cook Elec., Inc. and Magic Reservoir Hydroelectric, Inc., 44 FERC ¶ 62,144 (1988); Magic Reservoir Hydroelectric, Inc. and Big Wood Canal Co., 166 FERC ¶ 62,037 (2019). Therefore, the license would expire on December 31, 2026, and the statutory deadline for filing a new license application was December 31, 2024. See FPA 15(c)(1), 16 U.S.C. 808(c)(1).

The 9-megawatt project is located on the Big Wood River in Blaine and Camas Counties, Idaho. The project consists of: (1) a 640-foot-long, 128-foot-high earth-filled dam; (2) a 1,260-foot-long, 50-foot-high dike; (3) a 1,200-foot-long spillway structure; (4) a 3,740-acre reservoir with a storage capacity of approximately 191,500 acre-feet at an elevation of 4,798 feet; (5) a 37-foot-high intake tower; (6) a 620-foot-long, 132-inch-diameter outlet conduit leading to a 170-foot-long, 132-inch-diameter penstock connecting to a powerhouse; (7) a powerhouse containing three generating units with a combined capacity of 9 megawatts; (8) a 9.2-mile-long, 4.16 kilovolt transmission line; and (9) appurtenant facilities. The average annual energy generation of the project is approximately 14.3 gigawatt-hours.

Pursuant to section 15(c)(1) of the FPA ³ and section 16.9 of the Commission's regulations,⁴ an existing licensee must file an application for a new license at least 24 months prior to the expiration of the current license. As stated above, Big Wood Canal Company's NOI indicated that it would file an application for a new license; however, it did not file an application for a new license for the project by the December 31, 2024 deadline. Instead, on December 31, 2024, Big Wood Canal Company requested a 3-month extension of time to file its final license application.⁵

³ 16 U.S.C. 808(c)(1).

⁴ 18 CFR 16.9 (2024).

⁵ See Big Wood Canal Company December 31, 2024 Request for Extension.

The statutory date for filing a final license application cannot be waived.⁶ Therefore, the request for an extension of time to file a final license application for the Magic Dam Hydroelectric Project was denied. Pursuant to section 16.25(a) of the Commission's regulations, the Commission is soliciting applications from potential applicants. This solicitation is necessary because the deadline for filing an application for a new license and any competing license applications, pursuant to section 16.9 of the Commission's regulations, was December 31, 2024, and no other license applications for this project were filed.

⁶ See Pacific Gas and Elec. Co., 98 FERC ¶ 61,032 (2002), reh'g denied, 99 FERC ¶ 61,045 (2002).

With this notice, we are waiving those parts of section 16.24(a) and 16.25(a) which bar an existing licensee that missed the two-year application filing deadline from filing another application. Further, because Big Wood Canal Company completed the pre-filing consultation requirements pursuant to Part 4 of the Commission's regulations, we are waiving the consultation requirements in section 16.8(b) and (c) for the existing licensee. Consequently, Big Wood Canal Company will be allowed to file a license application and compete for the license.

The licensee is required to make available certain information described in section 16.7 of the regulations. For more information from the licensee, please contact Big Wood Canal Company's authorized agent Mr. Peter Josten, 2742 Saint Charles Avenue, Idaho Falls, ID 83404, (208) 339-3542.

Pursuant to section 16.25(b), a potential applicant that files a notice of intent within 90 days from the date of this notice: (1) may apply for a license under Part I of the FPA and Part 4 (except section 4.38) of the Commission's regulations within 18 months of the date on which it files its notice; and (2) must comply with sections 16.8 and 16.10 of the Commission's regulations.

Questions concerning this notice should be directed to Amy Chang at (202) 502-6154 or email at amy.chang@ferc.gov.

Dated: January 14, 2025.
Debbie-Anne A. Reese,
Secretary.

[FR Doc. 2025-01429 Filed 1-22-25; 8:45 am]

BILLING CODE 6717-01-P